DEPARTMENT OF COMMERCE

National Oceanic and Atmospheric Administration

[I.D.032405D]

Receipt of an Application for Incidental Take Permit (1528)

AGENCY: National Marine Fisheries Service (NMFS), National Oceanic and Atmospheric Administration, Commerce

ACTION: Notice of availability.

SUMMARY: NMFS has received an application for an incidental take permit (Permit) from the North Carolina Division of Marine Fisheries (NCDMF) pursuant to the Endangered Species Act of 1973, as amended (ESA). As required by the ESA, NCDMF's application includes a conservation plan designed to minimize and mitigate any such take of endangered or threatened species. The Permit application is for the incidental take of ESA-listed adult and juvenile sea turtles associated with otherwise lawful commercial fall gill net fisheries for flounder operating in Pamlico Sound, NC. The duration of the proposed Permit is for 6 years. NMFS is furnishing this notice in order to allow other agencies and the public an opportunity to review and comment on this document. All comments received will become part of the public record and will be available for review.

DATES: Written comments from interested parties on the Permit application and Plan must be received at the appropriate address or fax number (see ADDRESSES) no later than 5 p.m. Eastern daylight time on May 2, 2005.

ADDRESSES: Written comments on this action should be addressed to Therese Conant, Marine Mammal and Turtle Division, NMFS Office of Protected Resources, 1315 East-West Highway, Silver Spring, MD, 20910; or by fax (301) 427-2522, or by e-mail at: NMFS.1528@noaa.gov. The application is available for download and review at http://www.nmfs.noaa.gov/prot_res/PR3/Permits/ESAPermit.html.

FOR FURTHER INFORMATION CONTACT: Therese Conant (ph. 301-713-1401, fax 301-427-2522, e-mail Therese.Conant@noaa.gov; Dennis Klemm (ph. 727-824-5312, fax 727-824-5309, e-mail Dennis.Klemm@noaa.gov). Comments received will also be available for public inspection, by appointment, during normal business hours by calling 301-713-1401.

SUPPLEMENTARY INFORMATION: Section 9 of the ESA and Federal regulations prohibit the “taking” of a species listed as endangered or threatened. The term “take” is defined under the ESA to mean harass, harm, pursue, hunt, shoot, wound, kill, trap, capture, or collect, or to attempt to engage in any such conduct. NMFS may issue permits, under limited circumstances, to take listed species incidental to, and not the purpose of, otherwise lawful activities. Section 10(a)(1)(B) of the ESA provides for authorizing incidental take of listed species. NMFS regulations governing permits for threatened and endangered species are promulgated at 50 CFR 222.307.

Species Covered in this Notice

The following species are included in the conservation plan and Permit application: Loggerhead (Caretta caretta), green (Chelonia mydas), leatherback (Dermochelys coriacea), hawksbill (Eretmochelys imbricata), and Kemp's ridley (Lepidochelys kempii) sea turtles.

Background

NMFS issued Permit #1259 to NCDMF (65 FR 65840, November 2, 2000), Permit #1348 (66 FR 51023, October 5, 2001), and Permit #1398 (67 FR 67150, November 4, 2002) for managing the sea turtle interactions in certain factions of the commercial fall gill net fisheries for flounder in the southeastern portion of Pamlico Sound. On March 22, 2005, NCDMF submitted an application to NMFS for a Permit (#1528) authorizing incidental take of ESA-listed sea turtles associated with the shallow water fishery for the 2005 through 2010 fall fishing seasons. This application includes endangered Kemp's ridley, leatherback, and hawksbill sea turtles and the threatened green and loggerhead sea turtles. This fishery targets flounder. The proposed implementation of this fishery will allow for the continued commercial harvest of this species. This fishery is estimated to have a value of over one million dollars per year. This fishery supports fishermen and the local economy.

Conservation Plan

The conservation plan prepared by NCDMF describes measures designed to monitor, minimize, and mitigate the incidental takes of ESA-listed sea turtles. The conservation plan includes managing the shallow water large and small mesh gill net fishery which operates from April through December in areas adjacent to the Outer Banks and mainland in Pamlico Sound. Seven gill net restricted areas (GNRAs) will be designated for the eastern Pamlico Sound and one GNRA in the western Pamlico Sound along the mainland in Hyde and Pamlico Counties.

The seven eastern GNRAs consist of waters extending out from the barrier islands to a depth of less than 20 feet (6.1 m). The seven GNRAs from south to north are as follows: (1) the area from Wainwright Island bound by Core Banks; (2) the area surrounding Ocracoke Inlet; (3) the area north of Ocracoke Inlet to just south of Hatteras Inlet; (4) the area surrounding Hatteras Inlet; (5) the area north of Hatteras inlet to Avon; (6) the area north of Avon to south of Oregon Inlet; and (7) the area surrounding Oregon Inlet.

The eastern Pamlico Sound shallow water fishery operates from April through December in depths typically less than 3 feet (1.0 m). Vessels are usually open skiffs ranging from 15 to 25 feet (4.6 to 7.6 m) in length. Each fisherman sets 500 to 2000 yards (457 to 1,828 m) of large mesh (5.5 to 7.0 inch (14.0 to 17.8 cm)) or small mesh (3.5 to 4.5 inch (8.90 to 11.4 cm)) gill net, which are soaked overnight and retrieved by hand.

In addition to the eastern Pamlico Sound fisheries, a mainland based flounder gill net fishery occurs in the shallow water bays and along the shoreline of Hyde and Pamlico Counties. The GNRA consist of all mainland areas within 200 yards (183 m) of shore between 76°30′W and 75°42′W. The fishery operating in this area is similar to the Outer Banks fishery with the effort from April through December. Fishing depths are typically less than 3 feet (1.0 m), and each fisherman sets 500 to 2000 yards (457 to 1,828 m) of large mesh (5.5 to 7.0 inch (14.0 to 17.8 cm)), which are soaked overnight and retrieved by hand. This fishery did not operate during the 2001 fishing season due to the 2001 closure of Pamlico Sound (66 FR 50350, October 3, 2001).

Management measures identified in the Conservation Plan include tending requirements for small mesh gillnets; restrictions on the maximum net length per fishing operation; and prohibitions of large mesh gillnets in areas around the inlets. NCDMF will monitor sea turtle interactions through reports from fishery observers, fishermen, and NCDMF Marine Patrol.

The annual anticipated lethal and nonlethal incidental take of sea turtles is anticipated to be 100 and 320, respectively. Specifically, the anticipated lethal and nonlethal take by species is 25 and 80 Kemp's ridley, 50 and 160 green, and 25 and 80 loggerhead turtles. NCDMF is proposing to limit the commercial fall gill net fishery for flounder such that the incidental impacts on ESA-listed sea turtles will be minimized. NCDMF would use a variety of adaptive fishery management measures and restrictions through their state proclamation authority to reduce sea turtle mortality in the fall gill net fishery by 50 percent, compared to the mortality level indicated by strandings in 1999. NCDMF considered and rejected one other alternative, not applying for a permit and closing the fishery, when developing their conservation plan.

This notice is provided pursuant to section 10(c) of the ESA and the National Environmental Policy Act (NEPA) regulations (40 CFR 1506.6). NMFS will evaluate the application, associated documents, and comments submitted thereon to determine whether the application meets the requirements of the NEPA regulations and section 10(a) of the ESA. If it is determined that the requirements are met, a permit will be issued for incidental takes of ESA-listed sea turtles under the jurisdiction of NMFS. The final NEPA and permit determinations will not be completed until after the end of the 30-day comment period and will fully consider all public comments received during the comment period. NMFS will publish a record of its final action in the Federal Register.

Dated: March 28, 2005.
P. Michael Payne,
Chief, Marine Mammal and Turtle Division, Office of Protected Resources, National Marine Fisheries Service.

[FR Doc. 05-6506 Filed 3-31-05; 8:45 am]

BILLING CODE 3510-22-S